ENVIRONMENTAL PROTECTION AGENCY

[FRL-8189-8]

Notice of Charter Renewal

Agency: Environmental Protection Agency (EPA).

Notice is hereby given that the Charter for the Environmental Protection Agency's National Advisory Council for Environmental Policy and Technology (NACEPT) will be renewed for an additional two-year period. This committee has been determined to be in the public interest, in accordance with the provisions of the Federal Advisory Committee Act (FACA), 5 U.S.C. App. 2 § 9(c). The purpose of NACEPT is to provide advice and recommendations to the Administrator of EPA on a broad range of environmental policy, technology and management issues. Inquiries may be directed to Sonia Altieri, U.S. EPA, (Mail Code 1601-E), 1200 Pennsylvania Avenue, NW., Washington, DC 20460, telephone (202) 233-0061, or altieri.sonia@epa.gov.

Dated: June 20, 2006.
Rafael DeLeon,
Director, Office of Cooperative Environmental Management.

[FR Doc. 06-5852 Filed 6-27-06; 8:45 am]

BILLING CODE 6560-50-P